LIBRARY OF CONGRESS

Copyright Office

37 CFR Part 201

[Docket No. RM 2005-5]

Retransmission of Digital Broadcast Signals Pursuant to the Cable Statutory License

AGENCY: Copyright Office, Library of Congress.

ACTION: Notice of Inquiry.

SUMMARY: The Copyright Office is extending the time in which reply comments can be filed in response to its Notice of Inquiry regarding the retransmission of digital television broadcast signals by cable operators under the Copyright Act.

DATES: Reply Comments are due no later than December 18, 2006.

ADDRESSES: If hand delivered by a private party, an original and five copies of a comment or reply comment should be brought to Library of Congress, U.S. Copyright Office, 2221 S. Clark Street, 11th Floor, Arlington, Va. 22202, between 8:30 a.m. and 5 p.m. The envelope should be addressed as follows: Office of the General Counsel, U.S. Copyright Office.

If delivered by a commercial courier, an original and five copies of a comment or reply comment must be delivered to the Congressional Courier Acceptance Site (“CCAS”) located at 2nd and D Streets, NE, Washington, D.C. between 8:30 a.m. and 4 p.m. The envelope should be addressed as follows: Office of the General Counsel, U.S. Copyright Office, LM 430, James Madison Building, 101 Independence Avenue, SE, Washington, DC. Please note that CCAS will not accept delivery by means of overnight delivery services such as Federal Express, United Parcel Service or DHL.

If sent by mail (including overnight delivery using U.S. Postal Service Express Mail), an original and five copies of a comment or reply comment should be addressed to U.S. Copyright Office, Copyright GC/I&amp;R, P.O. Box 70400, Southwest Station, Washington, DC 20024.

FOR FURTHER INFORMATION CONTACT: Ben Golant, Senior Attorney, and Tanya M. Sandros, Associate General Counsel, Copyright GC/I&R, P.O. Box 70400, Southwest Station, Washington, DC 20024. Telephone: (202) 707-8380. Telefax: (202) 707-8366.

SUPPLEMENTARY INFORMATION: On September 20, 2006, the Copyright Office initiated a proceeding to address several issues associated with the secondary retransmission of digital television broadcast signals by cable operators under Section 111 of the Copyright Act. 71 FR 54948 (Sept. 20, 2006). The Copyright Office sought comment on matters raised by the Motion Picture Association of America and Joint Sports Claimants in their Petition for Rulemaking regarding the simultaneous retransmission of digital and analog broadcast signals as well as the secondary retransmission of multiple streams of digital broadcast content. The Notice of Inquiry also sought comment on cable operator marketing and sales practices and equipment issues associated with the retransmission of digital broadcast signals that may result in possible changes to the Copyright Office‘s existing rules and the cable statements of account forms.

Given the complexity of the issues raised in the Notice of Inquiry, and to provide the public with adequate time to respond to the comments filed in this proceeding, the Office has decided to extend the deadline for filing reply comments by a period of 14 days, making them due on December 18, 2006.

Dated: November 17 , 2006
Tanya Sandros,
Associate General Counsel,
U.S. Copyright Office.

[FR Doc. E6-19794 Filed 11-21-06; 8:45 am]

BILLING CODE 1410-30-S